DEPARTMENT OF AGRICULTURE

Forest Service

Siskiyou Resource Advisory Committee

AGENCY: Forest Service, USDA.

ACTION: Notice of meeting.

SUMMARY: The Siskiou Resource Advisory Committee will meet in Smith River, California. The committee is authorized under the Secure Rural Schools and Community Self-Determination Act (Pub. L. 110-343) (the Act) and operates in compliance with the Federal Advisory Committee Act. The purpose of the committee is to improve collaborative relationships and to provide advice and recommendations to the Forest Service concerning projects and funding consistent with the title II of the Act. The meeting is open to the public. The purpose of the meeting is to review and recommend projects submitted for funding under Title II of The Secure Rural Schools and Cummunity and Self-Determination Act of 2000. Existing projects will be reviewed also.

DATES: The meeting will be held June 30, 2011, 830 a.m.

ADDRESSES: The meeting will be held at Howonquet Hall Community Center, 101 Indian Court, Smith River, CA. Written comments may be submitted as described under SUPPLEMENTARY INFORMATION.

All comments, including names and addresses when provided, are placed in the record and are available for public inspection and copying. The public may inspect comments received at Medford Interagency Office, 3040 Biddle Road, Medford, OR 97504. Please call ahead to 541-618-2113 to facilitate entry into the building to view comments.

FOR FURTHER INFORMATION CONTACT: Virginia Gibbons, Public Affairs Officer, Rogue River-Siskiyou National Forest, 541-618-2113.

Individuals who use telecommunication devices for the deaf (TDD) may call the Federal Information Relay Service (FIRS) at 1-800-877-8339 between 8 a.m. and 8 p.m., Eastern Standard Time, Monday through Friday. Requests for reasonable accomodation for access to the facility or procedings may be made by contacting the person listed FOR FURTHER INFORMATION.

SUPPLEMENTARY INFORMATION: The following business will be conducted: Review status of FY2009, FY2010, and FY2011 projects selected by the Siskiyou, OR Resource Advisory committee for Josephine, Coos and Curry Counties; review and recommend FY2012 projects to the Designated Federal Official. Anyone who would like to bring related matters to the attention of the committee may file written statements with the committee staff before or after the meeting. The agenda will include time for people to make oral statements of three minutes or less.

May 25, 2011.
Fred Wahl,
Acting Forest Supervisor.

[FR Doc. 2011-13543 Filed 5-31-11; 8:45 am]

BILLING CODE 3410-11-P